POSTAL SERVICE

39 CFR Part 111

Caller Service—Customized Address

AGENCY: Postal Service™.

ACTION: Proposed rule; withdrawal.

SUMMARY: The Postal Service is withdrawing the proposed rule that announced a new service feature, Caller Service—Customized Address, which would've allowed current Caller Service customers to omit their Post Office Box number from the address of the mailpiece.

DATES: The proposed rule published June 17, 2022 (87 FR 36432-36433) is withdrawn as of January 12, 2023.

FOR FURTHER INFORMATION CONTACT: Dale Kennedy at (202) 268-6592 or Doriane Harley at (202) 268-2537.

SUPPLEMENTARY INFORMATION: In the proposed rule that was published in the Federal Register (87 FR 36432-36433) on June 17, 2022, the Postal Service proposed to allow approved Caller Service customers with a unique 5-digit ZIP Code to add Customized Address by paying for the right to omit the PO Box number and replacing it with a different approved address line.

In consideration of concerns expressed by members of the mailing community during the proposed rule comment period, the Postal Service has elected to withdraw the proposed rule. Nevertheless, the Postal Service reserves the right to revisit this initiative at a later date.

Tram T. Pham,
Attorney, Ethics and Legal Compliance.

[FR Doc. 2023-00433 Filed 1-11-23; 8:45 am]

BILLING CODE 7710-12-P